DEPARTMENT OF COMMERCE

International Trade Administration

[C-570-130]

Certain Walk-Behind Lawn Mowers and Parts Thereof From the People's Republic of China: Preliminary Results of Countervailing Duty Administrative Review and Rescission of Review, in Part; 2020-2021

AGENCY: Enforcement and Compliance, International Trade Administration, Department of Commerce.

SUMMARY: The U.S. Department of Commerce (Commerce) preliminarily determines that countervailable subsidies are being provided to producers and exporters of certain walk-behind lawn mowers and parts thereof (lawn mowers) from the People's Republic of China (China) during the period or review (POR), October 30, 2020, through December 31, 2021. Interested parties are invited to comment on these preliminary results.

DATES: Applicable August 3, 2023.

FOR FURTHER INFORMATION CONTACT: Natasia Harrison or Harrison Tanchuck, AD/CVD Operations, Office VI, Enforcement and Compliance, International Trade Administration, U.S. Department of Commerce, 1401 Constitution Avenue NW, Washington, DC 20230; telephone: (202) 482-1240 or (202) 482-7421, respectively.

SUPPLEMENTARY INFORMATION: Background

On July 13, 2021, Commerce published the Order in the Federal Register.¹ On September 6, 2022, Commerce published in the Federal Register the notice of initiation of an administrative review of the Order for the period October 30, 2020, through December 31, 2021.² On August 1, 2022, we received timely requests for an administrative review from exporters and/or producers: Zhejiang Amerisun Technology Co., Ltd (Zhejiang Amerisun), Zhejiang Dobest Power Tools Co., Ltd. (Zhejiang Dobest), Ningbo Daye Garden Machinery Co., Ltd. (Ningbo Daye), Daye North America, Inc., and Ningbo Lingyue Intelligent Equipment Co. Ltd. (Ningbo Lingyue).³ As explained below, on October 1, 2022, Zhejiang Amerisun and Zhejiang Dobest timely withdrew their requests for an administrative review of themselves.⁴ On October 18, 2022, Commerce selected Ningbo Daye as the mandatory respondent in this administrative review.⁵ On March 2, 2023, Commerce extended the deadline for these preliminary results until July 28, 2023.⁶

¹ See Certain Walk-Behind Lawn Mowers and Parts Thereof from the People's Republic of China: Countervailing Duty Order and Amended Final Affirmative Countervailing Duty Determination, 86 FR 36702 (July 13, 2021) (Order).

² See Initiation of Antidumping and Countervailing Duty Administrative Reviews, 87 FR 54463, 54474 (September 6, 2022).

³ See Ningbo Daye's Letter, “Request for Administrative Review,” dated August 1, 2023; see also Zhejiang Amerisun and Zhejiang Dobest's Letter, “Request for Administrative Review,” dated August 1, 2022.

⁴ See Zhejiang Amerisun's Letter, “Withdrawal of Request for Administrative Review,” dated October 1, 2022 (Zhejiang Amerisun's Withdrawal of Review Request); see also Zhejiang Dobest's Letter, “Withdrawal of Request for Administrative Review,” dated October 1, 2022 (Zhejiang Dobest's Withdrawal of Review Request).

⁵ See Memorandum, “Mandatory Respondent Identification,” dated October 18, 2022.

⁶ See Memorandum “Extension of Deadline for Preliminary Results of Countervailing Duty Administrative Review,” dated March 2, 2023.

For a complete description of the events that followed the initiation of this review, see the Preliminary Decision Memorandum.⁷ A list of the topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Countervailing Duty Administrative Review, Rescission of Review in Part, 2020-2021: Certain Walk-Behind Lawn Mowers and Parts Thereof from the People's Republic of China,” dated concurrently with, and hereby adopted by, this notice (Preliminary Decision Memorandum).

Scope of the Order

The products covered by the Order are lawn mowers from China. For a complete description of the scope of the Order, see the Preliminary Decision Memorandum.

Rescission of Administrative Review, in Part

Pursuant to 19 CFR 351.213(d)(1), Commerce will rescind an administrative review, in whole or in part, if the parties that requested a review withdraw the request within 90 days of the date of publication of the notice of initiation. On October 1, 2022, Zhejiang Amerisun and Zhejiang Dobest timely withdrew their requests for an administrative review of themselves.⁸ No other party requested a review of these companies. Therefore, in accordance with 19 CFR 351.213(d)(1), Commerce is rescinding this administrative review of the Order with respect to these two companies. For additional information regarding this determination, see the Preliminary Decision Memorandum.

⁸ See Zhejiang Amerisun's Withdrawal of Review Request and Zhejiang Dobest's Withdrawal of Review Request.

Methodology

Commerce is conducting this administrative review in accordance with section 751(a)(1)(A) of the Tariff Act of 1930, as amended (the Act). For each of the subsidy programs found countervailable, we preliminarily find that there is a subsidy, i.e., a financial contribution that gives rise to a benefit to the recipient and that the subsidy is specific.⁹

⁹ See sections 771(5)(B) and (D) of the Act regarding financial contribution; section 771(5)(E) of the Act regarding benefit; and section 771(5A) of the Act regarding specificity.

In reaching these preliminary results, Commerce relied on facts otherwise available, with the application of adverse inferences, pursuant to section 776 of the Act. For further information, see “Use of Facts Otherwise Available and Application of Adverse Inferences” in the accompanying Preliminary Decision Memorandum.

Preliminary Results of Review

We preliminarily determine the following net countervailable subsidy rates for the period October 30, 2020, through December 31, 2021:

¹⁰ This rate applies to Ningbo Daye and its cross-owned companies: Zhejiang Jindaye Holdings Limited and Ningbo Lingyue.

Producer/exporter | Subsidy rate in 2020 (percent ad valorem) | Subsidy rate in 2021 (percent ad valorem)
Ningbo Daye Garden Machinery Co., Ltd.¹⁰ | 10.58 | 9.46

Assessment Rates

In accordance with 19 CFR 351.221(b)(4)(i), we preliminarily assigned subsidy rates in the amounts above for the producer/exporters shown above. Consistent with section 751(a)(1) of the Act and 19 CFR 351.212(b)(2), upon issuance of the final results, Commerce will determine, and the U.S. Customs and Border Protection (CBP) shall assess, countervailing duties on all appropriate entries covered by this review. We intend to issue these instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which we have rescinded this administrative review, we will instruct CBP to assess countervailing duties on all appropriate entries at a rate equal to the cash deposit of estimated countervailing duties required at the time of entry, or withdrawn from warehouse, for consumption, during the period October 30, 2020, through December 31, 2021, in accordance with 19 CFR 351.212(c)(1)(i). Commerce intends to issue appropriate assessment instructions directly to CBP no earlier than 35 days after the date of publication of this notice in the Federal Register.

Cash Deposit Requirements

In accordance with section 751(a)(2)(C) of the Act, Commerce also intends to instruct CBP to collect cash deposits of estimated countervailing duties in the amounts indicated for the producers/exporters listed above for 2021, the second year covered by the period of review, on shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Public Comment

Case briefs or other written comments may be submitted to the Assistant Secretary for Enforcement and Compliance no later than 30 days after the publication of these preliminary results of review in the Federal Register.¹¹ Rebuttal comments, limited to issues raised in case briefs, may be submitted no later than seven days after the deadline for filing case briefs.¹² Parties who submit case or rebuttal briefs in this administrative review are encouraged to submit with each argument: (1) a statement of the issue; (2) a brief summary of the argument; and (3) a table of authorities.¹³ Case and rebuttal briefs must be filed using ACCESS.¹⁴ An electronically filed document must be received successfully in its entirety by ACCESS by 5:00 p.m. Easter Time on the established deadline. Note that Commerce has temporarily modified certain of its requirements for serving documents containing business proprietary information, until further notice.¹⁵

¹¹ See 19 CFR 351.309(c).

¹² See 19 CFR 351.309(d).

¹³ See 19 CFR 351.309(c)(2) and 351.309(d)(2).

¹⁴ See 19 CFR 351.303.

¹⁵ See 19 CFR 351.309; see also 19 CFR 351.303 (for general filing requirements); and Temporary Rule Modifying AD/CVD Service Requirements Due to COVID-19; Extension of Effective Period, 85 FR 41363 (July 10, 2020).

Pursuant to 19 CFR 351.310(c), parties who wish to request a hearing, limited to issues raised in the case and rebuttal briefs, must do so within 30 days after the publication of these preliminary results by submitting a written request to the Assistant Secretary for Enforcement and Compliance using ACCESS. Hearing requests should contain: (1) the party's name, address, and telephone number; (2) the number of participants; and (3) a list of the issues to be discussed. Issues addressed at the hearing will be limited to those raised in briefs. If a request for a hearing is made, Commerce will inform parties of the scheduled date for the hearing.¹⁶

¹⁶ See 19 CFR 351.310.

Unless the deadline is extended pursuant to section 751(a)(3)(A) of the Act, we intend to issue the final results of this administrative review, including the results of our analysis of the issues raised by interested parties in their case briefs, within 120 days after the issuance of these preliminary results of this administrative review.

Notification to Interested Parties

We are issuing and publishing these preliminary results in accordance with sections 751(a)(1) and 777(i)(1) of the Act, and 19 CFR 351.213(d)(4) and 351.221(b)(4).

Dated: July 28, 2023.
Lisa W. Wang,
Assistant Secretary for Enforcement and Compliance.

Appendix—List of Topics Discussed in the Preliminary Decision Memorandum

I. Summary

II. Background

III. Partial Rescission of Administrative Review

IV. Scope of the Order

V. Diversification of China's Economy

VI. Use of Facts Otherwise Available and Application of Adverse Inferences

VII. Subsidies Valuation

VIII. Benchmarks and Interest Rates

IX. Analysis of Programs

X. Recommendation

[FR Doc. 2023-16580 Filed 8-2-23; 8:45 am]

BILLING CODE 3510-DS-P